DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting.

SUMMARY: The Centers for Disease Control and Prevention (CDC) announces the next meeting of the Community Preventive Services Task Force (Task Force). The Task Force is an independent, nonpartisan, nonfederal, and unpaid panel. Its members represent a broad range of research, practice, and policy expertise in prevention, wellness, health promotion, and public health, and are appointed by the CDC Director. The Task Force was convened in 1996 by the Department of Health and Human Services (HHS) to identify community preventive programs, services, and policies that increase healthy longevity, save lives and dollars, and improve Americans' quality of life. CDC is mandated to provide ongoing administrative, research, and technical support for the operations of the Task Force. During its meetings, the Task Force considers the findings of systematic reviews on existing research and practice-based evidence and issues recommendations. Task Force recommendations are not mandates for compliance or spending. Instead, they provide information about evidence-based options that decision makers and stakeholders can consider when they are determining what best meets the specific needs, preferences, available resources, and constraints of their jurisdictions and constituents. The Task Force's recommendations, along with the systematic reviews of the evidence on which they are based, are compiled in the Guide to Community Preventive Services (The Community Guide).

DATES: The meeting will be held on Wednesday, February 15, 2017 from 8:30 a.m. to 6:00 p.m. EST and Thursday, February 16, 2017 from 8:30 a.m. to 1:00 p.m. EST.

ADDRESSES: The Task Force Meeting will be held at the CDC Edward R. Roybal Campus, Centers for Disease Control and Prevention Headquarters (Building 19), 1600 Clifton Road NE., Atlanta, GA 30329. You should be aware that the meeting location is in a Federal government building; therefore, Federal security measures are applicable. For additional information, please see Roybal Campus Security Guidelines under SUPPLEMENTARY INFORMATION. Information regarding meeting logistics will be available on the Community Guide Web site (www.thecommunityguide.org) closer to the date of the meeting.

Meeting Accessibility: This meeting is open to the public, limited only by space availability. All meeting attendees must RSVP to ensure the required security procedures are completed to gain access to the CDC's Global Communications Center.

Public Comment: The opportunity for public comment will be available during the meeting. A public comment period limited to 3 minutes per person will follow the Task Force's discussion of each systematic review. Individuals wishing to make public comments must indicate their desire to do so in advance by providing their name, organizational affiliation, and the topic to be addressed with their RSVP. Public comments will become part of the meeting summary. Public comment is not possible via Webcast.

U.S. citizens must RSVP by 02/13/2017. Non U.S. citizens must RSVP by 01/30/2017 due to additional security steps that must be completed. Failure to RSVP by the dates identified could result in the inability to attend the Task Force meeting due to the strict security regulations on federal facilities.

Meeting Accessibility: This meeting is available to the public via Webcast. The Webcast URL will be sent to registrants upon receipt of their RSVP. All meeting attendees must RSVP to receive the webcast information which will be emailed to them from the CPSTF@cdc.gov mailbox.

FOR FURTHER INFORMATION AND TO RSVP CONTACT: Onslow Smith, The Community Guide Branch; Division of Public Health Information Dissemination; Center for Surveillance, Epidemiology and Laboratory Services; Office of Public Health Scientific Services; Centers for Disease Control and Prevention, 1600 Clifton Road, MS-E-69, Atlanta, GA 30333, phone: (404)498-6778, email: CPSTF@cdc.gov.

SUPPLEMENTARY INFORMATION: Purpose: The purpose of the meeting is for the Task Force to consider systematic reviews and issue findings and recommendations based on the reviews. Task Force recommendations provide information about evidence-based options that decision makers and stakeholders can consider when they are determining what best meets the specific needs, preferences, available resources, and constraints of their jurisdictions and constituents.

Matters proposed to be discussed: * Cardiovascular disease prevention and control (effectiveness of digital interventions for blood pressure control, mobile phone text messaging for medication adherence), diabetes prevention and control (effectiveness and economic reviews of community health workers for diabetes management, low health literacy sensitive self-management programs for diabetes), health equity promotion (de-tracking, modified school time), and older adult health (self-management support programs for activities of daily living of older adults).

*Pending final approval of review preparations.

Roybal Campus Security Guidelines: The Edward R. Roybal Campus is the headquarters of the U.S. Centers for Disease Control and Prevention and is located at 1600 Clifton Road NE., Atlanta, Georgia. The meeting is being held in a Federal government building; therefore, Federal security measures are applicable.

All meeting attendees must RSVP by the dates outlined under Meeting Accessibility. In planning your arrival time, please take into account the need to park and clear security. All visitors must enter the Edward R. Roybal Campus through the front entrance on Clifton Road. Vehicles may be searched, and the guard force will then direct visitors to the designated parking area. Upon arrival at the facility, visitors must present government-issued photo identification (e.g., a valid federal identification badge, state driver's license, state non-driver's identification card, or passport). Non-United States citizens must complete the required security paperwork prior to the meeting date and must present a valid passport, visa, Permanent Resident Card, or other type of work authorization document upon arrival at the facility. All persons entering the building must pass through a metal detector. Visitors will be issued a visitor's ID badge at the entrance to Building 19 and may be escorted to the meeting room. All items brought to HHS/CDC are subject to inspection.

Dated: December 22, 2016.
Lauren Hoffmann,
Acting Executive Secretary, Centers for Disease Control and Prevention.

[FR Doc. 2016-31468 Filed 12-28-16; 8:45 am]

BILLING CODE 4163-18-P